NATIONAL AERONAUTICS AND SPACE ADMINISTRATION

[Notice (14-084)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: September 11, 2014.

FOR FURTHER INFORMATION CONTACT: Robert H. Earp, III, Patent Attorney, Glenn Research Center at Lewis Field, Code 21-14, Cleveland, OH 44135; telephone (216) 433-3663; fax (216) 433-6790.

NASA Case No.: LEW-18986-1: Generation of High Pressure Oxygen via Electrochemcial Pumping in a Multi-State Electrolysis Stack;

NASA Case No.: LEW-19080-1: Crosslinked Polyethylene Aerogels from Low Density Polyethylene, Linear Low Density Polyethylene, and Repurposed Polyethylene

NASA Case No.: LEW-18900-1: Heat Pipe Radiator

NASA Case No.: LEW-19067-1: Advanced Multilayer Environmental Barrier Coatings;

NASA Case No.: LEW-19072-1: Optical Tunable-Based Transmitter for Multiple Radio Frequency Bands;

NASA Case No.: LEW-19077-1: Improved Composite Damage Tolerance and Through Thickness Conductivity by Interleaving Carbon Fiber Veil Nanocomposites;

NASA Case No.: LEW-18952-1: A Novel Real Time Adaptive Filter for the Reduction of Artifacts in Functional Near Infrared Spectroscopy Signals.

Sumara M. Thompson-King,
General Counsel.

[FR Doc. 2014-21606 Filed 9-10-14; 8:45 am]

BILLING CODE 7510-13-P